DEPARTMENT OF TRANSPORTATION

Federal Aviation Administration

Notice of Intent To Request Revision From the Office of Management and Budget of a Currently Approved Information Collection Activity, Request for Comments; Federal Aviation Administration, Flight Standards Customer Satisfaction Survey

AGENCY: Federal Aviation Administration (FAA), DOT.

ACTION: Notice and request for comments.

SUMMARY: The FAA invites public comments about our intention to request the Office of Management and Budget (OMB) to approve a current information collection. At the request of the FAA, the Flight Standards office (AFS) is planning to conduct a targeted survey of general aviation pilots to measure the change in their use of and satisfaction with the FAA-sponsored Safety Seminar Program.

DATES: Please submit comments by May 25, 2007.

FOR FURTHER INFORMATION CONTACT: Carla Mauney on (202) 267-9895, or by e-mail at: Carla.Mauney@faa.gov.

SUPPLEMENTARY INFORMATION:

Federal Aviation Administration (FAA)

Title: Federal Aviation Administration, Flight Standards Customer Satisfaction Survey.

Type of Request: Revision of an approved collection.

OMB Control Number: 2120-0568.

Forms(s): There are no FAA forms associated with this collection.

Affected Public: A total of 5,400 Respondents.

Frequency: The information is collected on occasion.

Estimated Average Burden per Response: Approximately 10 minutes per response.

Estimated Annual Burden Hours: An estimated 585 hours annually.

Abstract: The FAA has initiated customer service surveys throughout the agency, requiring that every element have contact with their customers to assure that their needs are being met and that service is improved. At the request of the FAA, the Flight Standards office (AFS) is planning to conduct a targeted survey of general aviation pilots to measure the change in their use of and satisfaction with the FAA-sponsored Safety Seminar Program.

ADDRESSES: Send comments to the FAA at the following address: Ms. Carla Mauney, Room 712, Federal Aviation Administration, Strategy and Investment Analysis Division, AIO-20, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on March 20, 2007.
Carla Mauney,
FAA Information Collection Clearance Officer Strategy and Investment Analysis Division, AIO-20.

[FR Doc. 07-1467 Filed 3-23-07; 8:45 am]

BILLING CODE 4910-13-M